DEPARTMENT OF ENERGY

Federal Energy Regulatory Commission

[Docket No. RP03-336-000]

Gulfstream Natural Gas System, L.L.C.; Notice of Proposed Changes in FERC Gas Tariff

April 9, 2003.

Take notice that on April 4, 2003, Gulfstream Natural Gas System, L.L.C.(Gulfstream) tendered for filing as part of its FERC Gas Tariff, Original Volume No. 1, the following tariff sheets, reflecting effective dates of April 1, 2003 and May 1, 2003, respectively.

Original Sheet No. 8C.

Original Sheet No. 8D.

Gulfstream states that this filing is being made to implement two negotiated rate transactions, one under Rate Schedule FTS and one under Rate Schedule ITS, pursuant to Section 31 of the General Terms and Conditions (GT&C) of Gulfstream's FERC Gas Tariff.

Gulfstream also states that the tariff sheets being filed herewith identify these negotiated rates, including the exact legal name of the relevant shippers, the negotiated rates, the rate schedules, the contract terms, the receipt points, the delivery points, the Maximum Daily Quantity (MDQ), and the Maximum Hourly Flow Rate. Gulfstream also states that these proposed tariff sheets include footnotes where necessary to provide further detail on the agreements listed thereon.

Gulfstream states that copies of its filing have been mailed to all affected customers and interested state commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 17, 2003.

Magalie R. Salas,
Secretary.

[FR Doc. 03-9247 Filed 4-15-03; 8:45 am]

BILLING CODE 6717-01-P